NATIONAL SCIENCE FOUNDATION

Advisory Panel for Social and Political Sciences; Notice of Meetings

In accordance with the Federal Advisory Committee Act (Pub. L. 92-463, and amended), the National Science Foundation announces the following meetings of the Advisory Panel for Social and Political Sciences (1761).

Date and Time: November 15-16; 9 am to 5 pm.

Place: National Science Foundation, 4201 Wilson Boulevard, Room 920, Arlington, VA.

Contact Person: Dr. Frank Scioli and Dr. Marianne Stewart, Program Directors for Political Science, National Science Foundation. Telephone: (703) 292-8762.

Agenda: To review and evaluate the political science proposals as a part of the selection process for awards.

Date and Time: November 5-6; 9 am to 5 pm.

Place: National Science Foundation, 4201 Wilson Boulevard, Room 970, Arlington, VA.

Contact Person: Dr. Marie Provine, Program Director, Law and Social Science, National Science Foundation. Telephone: (703) 292-8762.

Agenda: To review and evaluate the Law and Science Proposals as a part of the selection process for awards.

Date and Time: December 11-12; 9 am to 5 pm.

Place: National Science Foundation, 4201 Wilson Boulevard, Room 970, Arlington, VA.

Contact Person: Dr. Patricia White and Dr. Fred Pampel, Department of Sociology, National Science Foundation. Telephone: (703) 292-8762.

Agenda: To review and evaluate the Sociology proposals as a part of the selection process for awards.

Type of Meetings: Closed.

Purpose of Meeting: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: October 10, 2000.
Karen J. York,
Committee Management Officer.

[FR Doc. 00-26326 Filed 10-12-00; 8:45 am]

BILLING CODE 7555-01-M